DEPARTMENT OF COMMERCE

National Oceanic and Atmospheric Administration

Small Business Innovation Research (SBIR) Request for Public Comments

AGENCY: National Oceanic and Atmospheric Administration (NOAA), Department of Commerce (DOC).

ACTION: Request for public comments and ideas on NOAA SBIR subtopics which would satisfy unmet industry needs.

SUMMARY: Notice is hereby given that the U.S. Department of Commerce, National Oceanic and Atmospheric Administration (NOAA), Small Business Innovation Research (SBIR) Program Office is requesting public comments to better understand the scientific community and small business concerns associated with the environmental industry, as well as improve our SBIR solicitation process.

Of NOAA's four major topics, which was derived from NOAA's Research and Development (R&D) goals, what problem statements or subtopic ideas can you suggest where the project outcome enables commercial products/services which would satisfy current or near term unmet industry needs. Please remember all submissions must be directly relevant to NOAA's mission. NOAA's four major mission topics are as follows:

a. Climate Adaptation and Mitigation

b. Weather-Ready Nation

c. Healthy Oceans

d. Resilient Coastal Communities and Economies

Please categorize submissions based on the four topics above and include as many problem statements or subtopic ideas as you see fit per topic. Also, please provide a brief description of the potential commercialized products/services for each idea submitted.

DATES: Comments and ideas must be received on or before April 29, 2016.

ADDRESSES: Send all comments via email to NOAA.SBIR@noaa.gov. Subject Line shall contain “NOAA SBIR Request for Public Comments—Federal Register.”

FOR FURTHER INFORMATION CONTACT: Vince Garcia, NOAA SBIR Program Manager, at: vincent.garcia@noaa.gov.

SUPPLEMENTARY INFORMATION: The NOAA Small Business Innovation Research (SBIR) Program Office is exploring options in streamlining and improving existing agency SBIR Phase I subtopic selection processes. The SBIR Program Office seeks to better understand unmet industry needs, which directly relate to NOAA's mission. Historically, subtopics are suggested by NOAA federally-employed scientists and engineers and are selected for publication in the annual SBIR Phase I solicitation by NOAA Line Office leadership.

Respondents shall not be obligated to provide the services described herein, if applicable, and it is understood by the United States Government that any cost estimates provided as a result of this request are “best” estimates only. All information submitted in response to this request for public comments is voluntary; the United States Government will not pay for information requested nor will it compensate any respondent for any cost incurred in developing information provided to the United States Government.

Dated: March 15, 2016.
Jason Donaldson,
Chief Financial Officer, Office of Oceanic and Atmospheric Research, National Oceanic and Atmospheric Administration.

[FR Doc. 2016-06555 Filed 3-24-16; 8:45 am]

BILLING CODE 3510-KD-P